OFFICE OF PERSONNEL MANAGEMENT

The National Partnership Council

AGENCY: Office of Personnel Management.

ACTION: Notice of meeting.

Time and Date: 11 a.m., April 25, 2000.

Place: FMCS 10th National Labor-Management Conference, Hyatt Regency Hotel, 151 East Wacker Drive, Chicago, IL.

Status: This meeting will be open to the public. Seating will be available on a first-come, first-served basis. Individuals with special access needs wishing to attend should contact OPM at the number shown below to obtain appropriate accommodations.

Matters to be Considered: The National Partnership Council meeting agenda includes a presentation by Morley Winograd, Director, National Partnership for Reinventing Government, reviewing the results of NPR's latest employee satisfaction survey. Dr. Marick Masters, University of Pittsburgh, will present preliminary findings of the NPC Research Project.

Contact Person for More Information: Jeff Sumberg, Director, Office of Labor and Employee Relations, Office of Personnel Management, Theodore Roosevelt Building, 1900 E Street, NW., Room 7H28, Washington, DC 20415-2000, (202) 606-2930.

Office of Personnel Management.
Janice R. Lachance,
Director.

[FR Doc. 00-10071 Filed 4-21-00; 8:45 am]

BILLING CODE 6325-01-P